SECURITIES AND EXCHANGE COMMISSION

Issuer Delisting; Notice of Application of Ryder System, Inc. To Withdraw Its Common Stock, $.50 Par Value, From Listing and Registration on the Archipelago Exchange (a Facility of the Pacific Exchange, Inc.) File No. 1-04364

October 20, 2004.

On September 28, 2004, Ryder System, Inc., a Florida corporation (“Issuer”), filed an application with the Securities and Exchange Commission (“Commission”), pursuant to section 12(d) of the Securities Exchange Act of 1934 (“Act”) ¹ and Rule 12d2-2(d) thereunder,² to withdraw its common stock, $.50 par value (“Security”), from listing and registration on the Archipelago Exchange (“ArcaEx”), a facility of the Pacific Exchange, Inc. (“PCX”).

¹ 15 U.S.C. 78l(d).

² 17 CFR 240.12d2-2(d).

The Board of Directors of the Issuer approved a resolution on July 16, 2004, to withdraw the Issuer's Security from listing on the ArcaEx. The Issuer states that the reason for its decision to withdraw its Security from the ArcaEx is the historically modest trading activity, the annual expense, and administrative burden of trading on the ArcaEx. The Issuer states that the Security is currently listed, and will continue to list, on the New York Stock Exchange (“NYSE”).

The Issuer stated in its application that it has complied with applicable rules of the ArcaEx, including PCX Rule 5.4(b), by complying with all applicable laws in effect in the State of Florida and by providing the ArcaEx with the required documents governing the removal of securities from listing and registration on the ArcaEx. The Issuer's application relates solely to the withdrawal of the Security from listing on the ArcaEx and shall not affect its continued listing on the NYSE or its obligation to be registered under section 12(b) of the Act.³

³ 15 U.S.C. 781(b).

Any interested person may, on or before November 16, 2004, comment on the facts bearing upon whether the application has been made in accordance with the rules of the ArcaEx, and what terms, if any, should be imposed by the Commission for the protection of investors. All comment letters may be submitted by either of the following methods:

Electronic Comments

• Send an e-mail to rule-comments@sec.gov. Please include the File Number 1-04364 or;

Paper Comments

• Send paper comments in triplicate to Jonathan G. Katz, Secretary, Securities and Exchange Commission, 450 Fifth Street, NW., Washington, DC 20549-0609.

All submissions should refer to File Number 1-04364. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

⁴ 17 CFR 200.30-3(a)(1).

For the Commission, by the Division of Market Regulation, pursuant to delegated authority.⁴
Jonathan G. Katz,
Secretary.

[FR Doc. E4-2854 Filed 10-25-04; 8:45 am]

BILLING CODE 8010-01-P